DEPARTMENT OF ENERGY

Federal Energy Regulatory Commission

Combined Notice of Filings # 1

October 31, 2007.

Take notice that the Commission received the following electric rate filings:

Docket Numbers: ER07-815-002.

Applicants: Midwest Independent Transmission System.

Description: Midwest Independent Transmission System Operator, Inc submits an Amended and Restated Facilities Construction Agreement.

Filed Date: 10/29/2007.

Accession Number: 20071031-0202.

Comment Date: 5 p.m. Eastern Time on Monday, November 19, 2007.

Docket Numbers: ER07-1237-002.

Applicants: L'Anse Warden Electric Co., Up Power Marketing, LLC and L'Anse Warde.

Description: UP Power Marketing LLC submits a revised version of FERC Electric Tariff, Original Volume 1.

Filed Date: 10/26/2007.

Accession Number: 20071031-0155.

Comment Date: 5 p.m. Eastern Time on Friday, November 16, 2007.

Docket Numbers: ER08-92-000.

Applicants: Virginia Electric and Power Company.

Description: Virginia Electric & Power Company dba Dominion Virginia Power submits revised tariff sheets to the open-access transmission tariff implementing a transmission cost of service formula rate.

Filed Date: 10/25/2007.

Accession Number: 20071029-0078.

Comment Date: 5 p.m. Eastern Time on Thursday, November 15, 2007.

Docket Numbers: ER08-93-000.

Applicants: PJM Interconnection, L.L.C.

Description: PJM Interconnection LLC requests waiver of FERC's notice requirements to permit an effective date of 11/21/07.

Filed Date: 10/26/2007.

Accession Number: 20071030-0102.

Comment Date: 5 p.m. Eastern Time on Friday, November 16, 2007.

Docket Numbers: ER08-94-000.

Applicants: Mid-Continent Area Power Pool.

Description: Mid-Continent Area Power Pool submits Third Revised Sheet 107 et al. to MAPP Schedule F for filing to FERC.

Filed Date: 10/26/2007.

Accession Number: 20071030-0101.

Comment Date: 5 p.m. Eastern Time on Friday, November 16, 2007.

Docket Numbers: ER08-101-000.

Applicants: PJM Interconnection, L.L.C.

Description: PJM Interconnection, LLC submits an executed Interconnection Service Agreement with Industrial Power Generating Co, LLC et al.

Filed Date: 10/29/2007.

Accession Number: 20071031-0205.

Comment Date: 5 p.m. Eastern Time on Tuesday, November 13, 2007.

Docket Numbers: ER08-102-000.

Applicants: Midwest Independent Transmission System.

Description: Midwest Independent Transmission System Operator, Inc submits an Amended Interconnection Agreement with Southern Indiana Gas and Electric Co et al.

Filed Date: 10/30/2007.

Accession Number: 20071031-0204.

Comment Date: 5 p.m. Eastern Time on Tuesday, November 20, 2007.

Docket Numbers: ER08-103-000.

Applicants: Wisconsin Public Service Corporation.

Description: Wisconsin Public Service Corp submits Fifth Revised Sheet 227 to Second Revised Rate Schedule FERC 51, effective 1/1/08.

Filed Date: 10/30/2007.

Accession Number: 20071031-0206.

Comment Date: 5 p.m. Eastern Time on Tuesday, November 20, 2007.

Docket Numbers: ER08-104-000.

Applicants: Wisconsin Public Service Corporation.

Description: Wisconsin Public Service Corp submits two revised service agreements with Manitowoc Public Utilities et al under ER08-104.

Filed Date: 10/30/2007.

Accession Number: 20071031-0203.

Comment Date: 5 p.m. Eastern Time on Tuesday, November 20, 2007.

Docket Numbers: ER08-115-000.

Applicants: New York Independent System Operator, Inc.

Description: New York Independent System Operator Inc. et al. submits executed amended and restated Standard Large Generator Interconnection Agreement with Airtricity Munnsville Wind Farm, LLC.

Filed Date: 10/29/2007.

Accession Number: 20071031-0201.

Comment Date: 5 p.m. Eastern Time on Monday, November 19, 2007.

Take notice that the Commission received the following electric securities filings:

Docket Numbers: ES07-62-001.

Applicants: AEP Generating Company.

Description: Amended Application Under Section 204 of the FPA for Authorization to Issue Securities of AEP Generating Company et al.

Filed Date: 10/30/2007.

Accession Number: 20071030-5025.

Comment Date: 5 p.m. Eastern Time on Wednesday, November 7, 2007.

Docket Numbers: ES07-66-001.

Applicants: Allegheny Generating Company.

Description: Supplemental Submission of Allegheny Generating Company.

Filed Date: 10/26/2007.

Accession Number: 20071026-5037.

Comment Date: 5 p.m. Eastern Time on Wednesday, November 7, 2007.

Docket Numbers: ES07-67-002.

Applicants: National Grid USA.

Description: Second Amendment to Application for Authorization to Issue Securities under Section 204 of the Federal Power Act of National Grid USA.

Filed Date: 10/23/2007.

Accession Number: 20071023-5048.

Comment Date: 5 p.m. Eastern Time on Wednesday, November 7, 2007.

Take notice that the Commission received the following electric reliability filings:

Docket Numbers: RR06-1-012; RR07-1-002; RR07-2-002; RR07-3-002; RR07-4-002; RR07-5-002; RR07-6-002; RR07-7-002; RR07-8-002.

Applicants: North American Electric Reliability Corporation.

Description: Compliance Filing of the North American Electric Reliability Corporation in Response to April 19 2007 Order including Attachments 1 through 10.

Filed Date: 10/30/2007.

Accession Number: 20071030-5030.

Comment Date: 5 p.m. Eastern Time on Tuesday, November 30, 2007.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Acting Deputy Secretary.

[FR Doc. E7-21835 Filed 11-6-07; 8:45 am]

BILLING CODE 6717-01-P